Title 3—

The President

Executive Order 13820 of January 3, 2018

Termination of Presidential Advisory Commission on Election Integrity

By the authority vested in me as President by the Constitution and the laws of the United States of America, it is hereby ordered as follows:

Section 1. Executive Order 13799 of May 11, 2017 (Establishment of Presidential Advisory Commission on Election Integrity), is hereby revoked, and the Presidential Advisory Commission on Election Integrity is accordingly terminated.

Sec. 2. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party (other than by the United States) against the United States, its departments, agencies, or entities, its officers, employees, or agents, or any other person.

THE WHITE HOUSE,

January 3, 2018.

[FR Doc. 2018-00240

Filed 1-5-18; 11:15 am]

Billing code 3295-F8-P